DEPARTMENT OF COMMERCE

National Oceanic and Atmospheric Administration

RIN 0648-XG332

Endangered Species; File No. 21858

AGENCY: National Marine Fisheries Service (NMFS), National Oceanic and Atmospheric Administration (NOAA), Commerce.

ACTION: Notice; receipt of application.

SUMMARY: Notice is hereby given that NMFS Greater Atlantic Region Fisheries Office (GARFO), 55 Great Republic Drive, Gloucester MA 01930 [Responsible Party: Julie Crocker], has applied in due form for a permit to take Atlantic (Acipenser oxyrinchus) and shortnose (A. brevirostrum) sturgeon parts for purposes of scientific research.

DATES: Written, telefaxed, or email comments must be received on or before August 8, 2018.

ADDRESSES: The application and related documents are available for review by selecting “Records Open for Public Comment” from the “Features” box on the Applications and Permits for Protected Species (APPS) home page, https://apps.nmfs.noaa.gov, and then selecting File No. 21858 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 21858 in the subject line of the email comment.

Those individuals requesting a public hearing should submit a written request to the Chief, Permits and Conservation Division at the address listed above. The request should set forth the specific reasons why a hearing on this application would be appropriate.

FOR FURTHER INFORMATION CONTACT: Erin Markin or Jennifer Skidmore, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

NMFS GARFO is requesting authority to collect, receive, export, transport, and archive 100 dead Atlantic and 50 dead shortnose sturgeon, or parts thereof, annually. The applicant requests authorization to receive and export 3,000 Atlantic and 1,500 shortnose sturgeon parts annually for the NMFS Sturgeon Tissue Repository. In addition, the applicant also requests the one-time transfer of 22,000 Atlantic and 8,100 shortnose sturgeon parts currently archived at the NMFS Sturgeon Tissue Repository under Permit No. 17557. Sturgeon samples would be obtained from individuals authorized to collect them in the course of scientific research, salvage activities, or taken during other authorized activities. Sturgeon parts and samples would be used to support law enforcement actions, research studies (primarily genetics), and incidental education. The permit would be valid for up to ten years from the date of issuance.

Dated: July 3, 2018.
Julia Marie Harrison,
Chief, Permits and Conservation Division, Office of Protected Resources, National Marine Fisheries Service.

[FR Doc. 2018-14677 Filed 7-6-18; 8:45 am]

BILLING CODE 3510-22-P